Title 3—

The President

Executive Order 13517 of October 30, 2009

Amendments to Executive Orders 13183 and 13494

By the authority vested in me as President by the Constitution and the laws of the United States of America, including 40 U.S.C. 101, it is hereby ordered as follows:

Section 1. Executive Order 13183 of December 23, 2000, as amended, is further amended as follows:

(a) The preamble is amended by deleting “, including Public Law 106-346.”

(b) Section 1 is amended by adding the following sentence after the second sentence: “It is also the policy of the executive branch to improve the treatment of Puerto Rico in Federal programs and to promote job creation, education, health care, clean energy, and economic development on the islands.”

(c) Section 3 is amended by deleting the second, third, and fourth sentences and inserting in lieu thereof the following: “The Task Force shall ensure official attention to and facilitate action on matters related to proposals for Puerto Rico's status and provide advice and recommendations on such matters to the President and the Congress. The Task Force shall also identify and promote existing Federal initiatives that benefit Puerto Rico; provide advice and recommendations to the President and the Congress on the treatment of Puerto Rico in Federal programs; and provide advice and recommendations to the President and the Congress on policies and initiatives that promote job creation, education, health care, clean energy, and economic development on the islands.”

(d) Section 4 is amended by deleting the first sentence and inserting in lieu thereof the following: “The Task Force shall submit to the President a report on the actions it has taken to perform the functions set forth in section 3 no later than 1 year from the date of this order. The Task Force shall also report to the President, as appropriate, on other matters relating to the Task Force's responsibilities under this order.”

Sec. 2. In furtherance of the policy set forth in section 1 of Executive Order 13494 of January 30, 2009, section 3 of that order is amended to read as follows: “Sec. 3. Contracting departments and agencies shall treat as allowable costs incurred in maintaining satisfactory relations between the contractor and its employees (other than the costs of any activities undertaken to persuade employees to exercise or not to exercise, or concerning the manner of exercising, the right to organize and bargain collectively), including costs of labor management committees, employee publications, and other related activities. See 48 C.F.R. 31.205-21.”

Sec. 3. This order is not intended to, and does not, create any right or benefit, substantive or procedural, enforceable at law or in equity by any party against the United States, its departments, agencies, or entities, its officers, employees, or agents, or any other person.

THE WHITE HOUSE,

October 30, 2009.

[FR Doc. E9-26834

Filed 11-4-09; 8:45 am]

Billing code 3195-W9-P